DEPARTMENT OF ENERGY

Federal Energy Regulatory Commission

[Docket No. RP03-65-000]

Cove Point LNG Limited Partnership; Notice of Tariff Filing

November 12, 2002.

Take notice that on November 6, 2002, Cove Point LNG Limited Partnership (Cove Point) tendered for filing as part of its FERC Gas Tariff, Second Revised Volume No. 1, First Revised Tariff Sheet No. 103; First Revised Tariff Sheet No. 105; First Revised Tariff Sheet No. 115; First Revised Tariff Sheet No. 117; and Second Revised Tariff Sheet No. 153, with an effective date of December 4, 2002.

Cove Point states that the proposed revised sheets are submitted to comply with the Commission's (Order No. 587-O). Order No. 587-O requires Cove Point to adopt Version 1.5 of the North American Energy Standards Board's (NAESB) standards.

Cove Point states that copies its filing has been served upon all of Cove Point's customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-29152 Filed 11-18-02; 8:45 am]

BILLING CODE 6717-01-P